DEPARTMENT OF JUSTICE

Federal Bureau of Investigation

[OMB Number 1110-0043]

Criminal Justice Information Services Division; National Instant Criminal Background Check System Section; Agency Information Collection Activities: Existing Collection, Comments Requested

ACTION: 30-Day Notice of Information Collection Under Review: Approval of an existing collection; The Voluntary Appeal File (VAF) Brochure.

The Department of Justice (DOJ), FBI, Criminal Justice Information Services (CJIS) Division's National Instant Criminal Background Check System (NICS) Section will be submitting the following information collection request to the Office of Management and Budget (OMB) for review and approval in accordance with the Paperwork Reduction Act of 1995. The proposed information collection is published to obtain comments from the public and affected agencies. This proposed information collection was previously published in the Federal Register Volume 73, Number 83, Pages 23273 on April 29, 2008, allowing for a 60-day comment period. The purpose of this notice is to allow for an additional 30 days for public comment until August 7, 2008. This process is conducted in accordance with Title 5, Code of Federal Regulations (CFR), Section 1320.10.

Written comments and/or suggestions regarding the items contained in this notice, especially the estimated public burden and associated response time, should be directed to the Office of Management and Budget, Office of Information and Regulatory Affairs, Attention: Department of Justice Desk Officer, Washington, DC 20503. Additionally, comments may be submitted to OMB via facsimile to (202) 395-7285.

Written comments and suggestions from the public and affected agencies concerning the proposed collection of information are encouraged. Your comments should address one or more of the following four points:

(1) Evaluate whether the proposed collection of information is necessary for the proper performance of the functions of the agency/component, including whether the information will have practical utility;

(2) Evaluate the accuracy of the agency's/component's estimate of the burden of the proposed collection of the information, including the validity of the methodology and assumptions used;

(3) Enhance the quality, utility, and clarity of the information to be collected; and

(4) Minimize the burden of the collection of information on those who are to respond, including the use of appropriate automated, electronic, mechanical, or other technological collection techniques or other forms of information technology, e.g., permitting electronic submission of responses.

Overview of This Information

(1) Type of Information Collection: Approval of an existing collection.

(2) Title of the Forms:The Voluntary Appeal File (VAF) Brochure.

(3) Agency Form Number, if any, and the applicable component of the department sponsoring the collection:

Form Number: 1110-0043.

Sponsor: Criminal Justice Information Services (CJIS) Division of the FBI, Department of Justice (DOJ).

(4) Affected Public who will be asked or required to respond, as well as a brief abstract:

Primary: Any individual requesting entry into the FBI's Criminal Justice Information Services (CJIS) Division's National Instant Criminal Background Check System (NICS) Section's Voluntary Appeal File (VAF).

Brief Abstract: Under 28 CFR, Part 25.9(b)(1), (2), (3), the NICS must destroy all identifying information on allowed transactions within 24 hours of the Federal Firearm Licensee (FFL) being notified of the transaction's proceed status. If a potential purchaser is delayed or denied a firearm, then successfully appeals the decision, the NICS Section cannot retain a record of the overturned appeal or the supporting documentation. If the record cannot be updated, the purchaser continues to be delayed or denied, and if that individual appeals the decision, the documentation must be resubmitted for every subsequent purchase. As such, the VAF was mandated to be created and maintained by the NICS Section for the purpose of preventing future lengthy delays or erroneous denials of a firearm transfer. An individual wishing to request entry into the VAF may obtain a VAF brochure from the NICS Section, an FFL, or the NICS Section Web site at the Internet address: http://www.fbi.gov/programs/nics/index.htm.

(5) An estimate of the total number of respondents and the amount of time estimated for an average respondent to respond:It is estimated that 12,500 individuals will request entry into the VAF. It takes an average of 5 minutes to read and complete all areas of the application, an estimated 2 hours for the process of fingerprinting including travel, and 25 minutes to mail the form for a total of 2.5 hours estimated burden to the respondent.

(6) An estimate of the total public burden (in hours) associated with the collection:The number of persons requesting entry into the VAF is estimated to be 12,500 individuals. The time it takes each individual to complete the process is 2.5 hours. The total public burden hours is 12,500 respondents multiplied by 2.5 hours which equals 31,250 total burden hours.

If additional information is required, contact: Ms. Lynn Bryant, Department Clearance Officer, United States Department of Justice, Information Management and Security Staff, Justice Management Division, Suite 1600, Patrick Henry Building, 601 D Street, NW., Washington, DC 20530.

Dated: July 1, 2008.
Lynn Bryant,
Department Clearance Officer, United States Department of Justice.

[FR Doc. E8-15381 Filed 7-7-08; 8:45 am]

BILLING CODE 4410-02-P